DEPARTMENT OF HEALTH AND HUMAN SERVICES

Administration for Children and Families

Proposed Information Collection Activity; Comment Request

Title: Job Search Assistance (JSA) Strategies Evaluation.

OMB No.: 0970-0440.

Description: The Administration for Children and Families (ACF) is proposing a data collection activity as part of the Job Search Assistance (JSA) Strategies Evaluation. The JSA evaluation will aim to determine which JSA strategies are most effective in moving TANF applicants and recipients into work. The impact study will randomly assign individuals to contrasting JSA approaches and then compare their employment and earnings to determine their relative effectiveness. The implementation study will describe services participants receive under each approach as well as provide operational lessons gathered directly from practitioners.

The proposed information collection activity consists of: (1) Baseline data collection: Collection of baseline data from TANF recipients at the time of enrollment in the study; (2) Implementation study site visits: Conducting site visits for the purpose of documenting the program context, program organization and staffing, the components JSA services, and other relevant aspects of the TANF program. During the visits, site teams will interview key administrators and line staff using a semi-structured interview guide; and (3) a JSA staff survey. This on-line survey, administered to TANF supervisory and line staff involved in JSA activities, will be used as part of the implementation study to systematically document program operations and the type of JSA services provided across the study sites.

Respondents: JSA program staff and individuals enrolled in the JSA study.

Annual Burden Estimates
Instrument | Total number of respondents | Annual number of respondents | Number of responses per respondent | Average burden hours per response | Total annual burden hours
Baseline information form | 25,000 | 8,333 | 1 | 0.2 | 1667
JSA staff Survey | 660 | 220 | 1 | 0.5 | 110
Implementation study site visits | 300 | 100 | 1 | 1 | 100

Estimated Total Annual Burden Hours: 1,877

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for, Children and Families.

Karl Koerper,
Reports Clearance Officer.

[FR Doc. 2014-19798 Filed 8-20-14; 8:45 am]

BILLING CODE 4184-09-P